DEPARTMENT OF THE TREASURY

31 CFR Part 802

Determination Regarding Excepted Real Estate Foreign States

AGENCY: Office of Investment Security, Department of the Treasury.

ACTION: Determination.

SUMMARY: The Department of the Treasury, as Chair of the Committee on Foreign Investment in the United States, is publishing the Committee's determination that two foreign states have made significant progress toward establishing and effectively utilizing a robust process to analyze foreign investments for national security risks and to facilitate coordination with the United States on matters relating to investment security.

DATES: Effective February 10, 2023.

FOR FURTHER INFORMATION CONTACT: Joshua Jungman, Deputy Director of Investment Security Policy and International Relations, at U.S. Department of the Treasury, 1500 Pennsylvania Avenue NW, Washington, DC 20220; telephone: (202) 622-1749; email: CFIUS.FIRRMA@treasury.gov.

SUPPLEMENTARY INFORMATION:

Electronic Availability

The list of excepted real estate foreign states and additional information with respect to the Committee on Foreign Investment in the United States (CFIUS or the Committee) are available on the Committee's section of the Department of the Treasury website.

Notice of CFIUS Action

The Committee, taking into consideration the factors identified on the Committee's section of the Department of the Treasury website, has determined, under the authority of section 721 of the Defense Production Act of 1950, as amended, and 31 CFR 802.1001(a), that: (1) New Zealand has made significant progress toward establishing and effectively utilizing a robust process to analyze foreign investments for national security risks and to facilitate coordination with the United States on matters relating to investment security; and (2) the United Kingdom of Great Britain and Northern Ireland has made significant progress toward establishing and effectively utilizing a robust process to analyze foreign investments for national security risks and to facilitate coordination with the United States on matters relating to investment security.

This determination satisfies the second criterion in the definition of excepted real estate foreign state under 31 CFR 802.214 with respect to New Zealand and the United Kingdom of Great Britain and Northern Ireland. Therefore, New Zealand and the United Kingdom of Great Britain and Northern Ireland are and will remain excepted real estate foreign states absent further Committee action and notice in the Federal Register.

Paul Rosen,
Assistant Secretary for Investment Security.

[FR Doc. 2023-02531 Filed 2-10-23; 8:45 am]

BILLING CODE P